FEDERAL ELECTION COMMISSION

[Notice 2012-06]

Filing Dates for the Kentucky Special Election in the 4th Congressional District

AGENCY: Federal Election Commission.

ACTION: Notice of filing dates for special election.

SUMMARY: Kentucky has scheduled a general election on November 6, 2012, to fill the U.S. House seat in the Fourth Congressional District vacated by Representative Geoff Davis.

Committees required to file reports in connection with the Special General Election on November 6, 2012, shall file a 12-day Pre-General Report, and a 30-day Post-General Report.

FOR FURTHER INFORMATION CONTACT: Ms. Elizabeth S. Kurland, Information Division, 999 E Street NW., Washington, DC 20463; Telephone: (202) 694-1100; Toll Free (800) 424-9530.

SUPPLEMENTARY INFORMATION:

Principal Campaign Committees

All principal campaign committees of candidates who participate in the Kentucky Special General Election shall file a 12-day Pre-General Report on October 25, 2012; and a 30-day Post-General Report on December 6, 2012. (See chart below for the closing date for each report).

Note that these reports are in addition to the campaign committee's regular quarterly filings. (See chart below for the closing date for each report).

Unauthorized Committees (PACs and Party Committees)

Political committees filing on a quarterly basis in 2012 are subject to special election reporting if they make previously undisclosed contributions or expenditures in connection with the Kentucky Special General Election by the close of books for the applicable report(s). (See chart below for the closing date for each report).

Committees filing monthly that make contributions or expenditures in connection with the Kentucky Special General Election will continue to file according to the monthly reporting schedule.

Additional disclosure information in connection with the Kentucky Special Election may be found on the FEC Web site at http://www.fec.gov/info/report_dates.shtml.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of $16,700 during the special election reporting periods (see charts below for closing date of each period). 11 CFR 104.22(a)(5)(v).

¹ These dates indicate the end of the reporting period. A reporting period always begins the day after the closing date of the last report filed. If the committee is new and has not previously filed a report, the first report must cover all activity that occurred before the committee registered as a political committee with the Commission up through the close of books for the first report due.

Calendar of Reporting Dates for Kentucky Special Election

Committees Involved in the Special General (11/06/12) Must File
Report | Close of books ¹ | Reg./cert. and overnight mailing deadline | Filing deadline
Pre-General | 10/17/12 | 10/22/12 | 10/25/12
Post-General | 11/26/12 | 12/06/12 | 12/06/12
Year-End | 12/31/12 | 01/31/13 | 01/31/13

Dated: September 5, 2012
On behalf of the Commission,
Caroline C. Hunter,
Chair, Federal Election Commission.

[FR Doc. 2012-22361 Filed 9-11-12; 8:45 am]

BILLING CODE 6715-01-P